DEPARTMENT OF THE TREASURY

Internal Revenue Service

26 CFR Part 300

[REG-134923-07]

RIN 1545-BG88

User Fees Relating to Enrollment To Perform Actuarial Services; Hearing

AGENCY: Internal Revenue Service (IRS), Treasury.

ACTION: Cancellation of notice of public hearing on proposed rulemaking.

SUMMARY: This document cancels a public hearing on proposed regulations relating to user fees for the initial and renewed enrollment to become an enrolled actuary.

DATES: The public hearing, originally scheduled for November 26, 2007, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Wednesday, October 31, 2007 (72 FR 61583), announced that a public hearing was scheduled for November 26, 2007, at 10 a.m., in room 3716, Internal Revenue Building, 1111 Constitution Avenue, NW., Washington, DC. The subject of the public hearing is under sections 7 and 8 of the Internal Revenue Code.

The public comment period for these regulations expires on November 30, 2007. The notice of proposed rulemaking and notice of public hearing instructed those interested in testifying at the public hearing to submit a request to speak and an outline of the topics to be addressed. As of Tuesday, November 20, 2007, no one has requested to speak. Therefore, the public hearing scheduled for November 26, 2007, is cancelled.

LaNita Van Dyke,
Chief, Publications and Regulations Branch, Legal Processing Division, Associate Chief Counsel (Procedure and Administration).

[FR Doc. E7-22893 Filed 11-21-07; 8:45 am]

BILLING CODE 4830-01-P